DEPARTMENT OF COMMERCE

Patent and Trademark Office

37 CFR Part 1

[Docket No. PTO-C-2006-0015]

RIN 0651-AB81

Revision of Patent Fees for Fiscal Year 2007

AGENCY: United States Patent and Trademark Office, Commerce.

ACTION: Final rule; correction.

SUMMARY: The United States Patent and Trademark Office (Office) published a final rule in the Federal Register of August 22, 2007, adjusting patent fees for fiscal year 2007 to reflect fluctuations in the Consumer Price Index (CPI). This document corrects errors in that final rule.

EFFECTIVE DATE: September 30, 2007.

FOR FURTHER INFORMATION CONTACT: Richard R. Cole, Senior Legal Examiner, Office of PCT Legal Administration (OPCTLA) directly by telephone at (571) 272-3281, or by facsimile at (571) 273-0459.

SUPPLEMENTARY INFORMATION: The Office published a final rule in the Federal Register of August 22, 2007 (72 FR 46899), entitled “Revision of Patent Fees for Fiscal Year 2007.” In that final rule, there was a mathematical error in the computation of fees payable under 37 CFR 1.17(a)(4) and (a)(5). This document amends the final rule with the correct fees. Additionally, the text of existing 37 CFR 1.492(b)(2) through (b)(4) was inadvertently changed in that final rule. This document corrects the text of 37 CFR 1.492(b)(2) through (b)(4) in that final rule.

Section 553(d) of the Administrative Procedure Act (5 U.S.C. 553(d)) ordinarily requires a 30-day delay in the effective date of final rules after the date of their publication in the Federal Register. This 30-day delay in effective date can be waived, however, if an agency finds for good cause that the delay is impracticable, unnecessary, or contrary to the public interest. The changes in 37 CFR 1.17(a)(4) and (a)(5) reflect a technical error in the computation of the payable fee. The changes in 37 CFR 1.492(b)(2) through (b)(4) do not change the fee amounts from the final rule published on August 22, 2007, but merely correct the language consistent with the existing and intended text. The Office finds it impracticable to have a 30-day delayed effective date for these technical corrections as the Office must charge the correct fees as of the effective date. Furthermore, the Office finds that it is in the public's interest to correct the changes in text where no change is intended. Therefore, the Office is waiving the 30-day delay in effective date for the technical and computational corrections in this notice.

In rule FR Doc. E7-16574, August 22, 2007 (72 FR 46899), make the following corrections:

§ 1.17 [Corrected]

1. On page 46902, in the first column, § 1.17(a)(4) through (a)(5) are corrected to read as follows:

§ 1.17 Patent application and reexamination processing fee.

(a) * * *

(4) For reply within fourth month:

By a small entity (§ 1.27(a)) | $820.00
By other than a small entity | $1,640.00

(5) For reply within fifth month:

By a small entity (§ 1.27(a)) | $1,115.00
By other than a small entity | $2,230.00

* * * * *

§ 1.492 [Corrected]

2. On page 46902, in the third column, § 1.492(b)(2) through (b)(4) are corrected to read as follows:

§ 1.492 National stage fees.

* * * * *

(b) * * *

(2) If the search fee as set forth in § 1.445(a)(2) has been paid on the international application to the United States Patent and Trademark Office as an International Searching Authority:

By a small entity (§ 1.27(a)) | $50.00
By other than a small entity | $100.00

(3) If an international search report on the international application has been prepared by an International Searching Authority other than the United States International Searching Authority and is provided, or has been previously communicated by the International Bureau, to the Office:

By a small entity (§ 1.27(a)) | $205.00
By other than a small entity | $410.00

(4) In all situations not provided for in paragraphs (b)(1), (b)(2), or (b)(3) of this section:

By a small entity (§ 1.27(a)) | $255.00
By other than a small entity | $510.00

* * * * *

Dated: September 25, 2007.
Barry K. Hudson,
Chief Financial Officer.

[FR Doc. E7-19326 Filed 9-27-07; 8:45 am]

BILLING CODE 3510-16-P